DEPARTMENT OF AGRICULTURE

Forest Service

Buckhorn Exploration Project 2010, Okanogan-Wenatchee National Forest, Okanogan County, Washington

ACTION: Notice of Extension of Scoping Period for Environmental Impact Statement.

Joint Lead Agencies: Forest Service, Department of Agriculture; and Department of Natural Resources, Washington State.

Cooperating Agencies: Bureau of Land Management, Department of the Interior; and Department of Ecology, Washington State.

On November 26, 2010, the Department of Agriculture, Forest Service, in cooperation with the Department of the Interior, Bureau of Land Management (BLM), Washington State Department of Natural Resources (DNR), and Washington Department of Ecology (WADOE), announced the intent to prepare an Environmental Impact Statement (EIS) for a proposal by Echo Bay Exploration, Inc. (Echo Bay) to explore their mineral holdings northeast of Tonasket, Washington (FR 72781, Vol. 75, No. 227).

That notice of intent identified January 3, 2011 as the time by which comments on the scope of the project must be received. That period is now being extended until January 18, 2011. Comments must be received by this new date. For further information, contact Phillip Christy, District Environmental Coordinator, 1 West Winesap, Tonasket, Washington 98855, phone (509) 486-5137, Kelly Courtright, BLM Mining Engineer, 1103 N. Fancher Road, Spokane, WA 99212, phone (509) 536-1218, or Fred Greef, SEPA Coordinator, Washington State Department of Natural Resources, P.O. Box 7015, Olympia, WA 98504-7015, phone (360) 902-1628. Individuals who use telecommunication devices for the deaf (TDD) may call the Federal Information Relay Service (FIRS) at 1-800-877-8339 between 8 a.m. and 8 p.m., Eastern Time, Monday through Friday.

Dated: December 20, 2010.
Maureen R. Hanson,
Acting Forest Supervisor.

[FR Doc. 2010-32621 Filed 12-27-10; 8:45 am]

BILLING CODE 3410-11-P